DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments. FEMA will use The National Fire Academy Executive Fire Officer Program Application form to enroll senior level firefighting officers or individuals in courses to advance their knowledge and ability to prevent and control fires.

Title: National Fire Academy Executive Fire Officer Program Application Form.

OMB Number: 1660-0021.

Abstract: The Executive Fire Officer Program (EFOP) is available to senior level firefighting officers or individuals who are responsible for a major functional area within a fire service organization. The curriculum consists of courses used to advance the knowledge and ability to prevent and control fires including tactics and command of firefighting. FEMA Form 95-22 is used to assess samples of writing syle and analytical ability. FEMA Form 75-5 is used in conjunction with FEMA form 95-22 to screen candidates for the EFOP.

Affected Public: Individuals or Households.

Number of Respondents: 300.

Estimated Time per Respondent: FEMA Form 95-22, Executive Fire Officer Program Application for Admission, 1 hour; Additional Items, 1 hour.

Estimated Total Annual Burden Hours: 600 hours.

Frequency of Response: On occasion.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 3, 2005.

FOR FURTHER INFORMATION CONTACT: Requests for additional information or copies of the information collection should be made to Muriel B. Anderson, Section Chief, Records Management, FEMA at 500 C Street, SW., Room 316, Washington, DC 20472, facsimile number (202) 646-3347, or e-mail address FEMA-Information-Collections@dhs.gov.

Dated: November 19, 2004.
Edward W. Kernan,
Branch Chief, Information Resources Management Branch, Information Technology Services Division.

[FR Doc. 04-26604 Filed 12-2-04; 8:45 am]

BILLING CODE 9110-17-P